DEPARTMENT OF COMMERCE

National Oceanic and Atmospheric Administration

50 CFR Part 648

[Docket No. 011109274-1301-02; I.D. 101602D]

Fisheries of the Northeastern United States; Scup Fishery; Commercial Quota Harvested for Winter II Period

AGENCY: National Marine Fisheries Service (NMFS), National Oceanic and Atmospheric Administration (NOAA), Commerce.

ACTION: Scup commercial quota harvested for Winter II period.

SUMMARY: NMFS announces that the scup commercial quota available in the 2002 Winter II period (November - December) to the coastal states from Maine to North Carolina has been harvested. Federally permitted commercial vessels may not land scup in these states for the remainder of the 2002 Winter II quota period (through December 31, 2002). Regulations governing the scup fishery require publication of this notification to advise the coastal states from Maine through North Carolina that the scup quota has been harvested and to advise Federal vessel permit holders and Federal dealer permit holders.

DATES: Effective 0001 hrs local time, December 2, 2002, through 2400 hrs local time, December 31, 2002.

FOR FURTHER INFORMATION CONTACT: Richard A. Pearson, Fishery Policy Analyst, (978) 281-9279.

SUPPLEMENTARY INFORMATION: Regulations governing the scup fishery are found at 50 CFR part 648. The regulations require annual specification of a commercial quota that is allocated into three quota periods. The Winter II commercial quota (November through December) is distributed to the coastal states from Maine through North Carolina. The process to set the annual commercial quota and the seasonal allocation is described at § 648.120.

The total commercial quota for scup for the 2002 calendar year was initially set at 8,000,000 lb (3,628,739 kg) and then adjusted downward to 7,834,522 lb (3,553,679 kg), to account for research quota set-asides (66 FR 66351; December 26, 2001). The Winter II period quota, which is equal to 15.94 percent of the annual commercial quota, was 1,248,823 lb (566,456 kg). The 2002 Winter II quota allocation was then adjusted downward to compensate for 2001 Winter II landings in excess of the 2001 Winter II quota (67 FR 49621, July 31, 2002), consistent with the procedures specified at § 648.120(d)(3)(ii). Accordingly, the final adjusted 2002 Winter II period commercial quota is 1,179,502 lb (535,013 kg).

Section 648.121 requires the Administrator, Northeast Region, NMFS (Regional Administrator) to monitor the commercial scup quota for each quota period and, based upon dealer reports, state data, and other available information, to determine when the commercial quota has been harvested. NMFS is required to publish notification in the Federal Register advising and notifying federally permitted commercial vessels and federally permitted dealers that, effective upon a specific date, the scup commercial quota has been harvested. The Regional Administrator has determined, based upon dealer reports and other available information, that the scup commercial quota for the 2002 Winter II period has been harvested.

The regulations at § 648.4(b) provide that Federal scup moratorium permit holders agree, as a condition of the permit, not to land scup in any state after NMFS has published a notification in the Federal Register stating that the commercial quota for the period has been harvested and that no commercial quota for scup is available. Therefore, effective 0001 hours, December 2, 2002, further landings of scup by vessels holding Federal scup moratorium permits are prohibited through December 31, 2002. The 2003 Winter I period for commercial scup harvest will open on January 1, 2003. Effective 0001 hours, December 2, 2002, federally permitted dealers are also advised that they may not purchase scup from federally permitted vessels that land in coastal states from Maine through North Carolina for the remainder of the Winter II period (through December 31, 2002).

Classification

This action is required by 50 CFR part 648 and is exempt from review under Executive Order 12866.

Authority: 16 U.S.C. 1801 et seq.

Dated: November 25, 2002.
Bruce C. Morehead,
Acting Director, Office of Sustainable Fisheries, National Marine Fisheries Service.

[FR Doc. 02-30452 Filed 11-26-02; 5:00 pm]

BILLING CODE 3510-22-S